DEPARTMENT OF ENERGY

Federal Energy Regulatory Commission

Combined Notice of Filings #1

Take notice that the Commission received the following exempt wholesale generator filings:

Docket Numbers: EG21-194-000.

Applicants: Rainbow Energy Center, LLC.

Description: Self-Certification of Exempt Wholesale Generator Status of Rainbow Energy Center, LLC.

Filed Date: 7/8/21.

Accession Number: 20210708-5115.

Comments Due: 5 p.m. ET 7/29/21.

Take notice that the Commission received the following electric rate filings:

Docket Numbers: ER10-2290-009.

Applicants: Avista Corporation.

Description: Notice of Change in Status Reflect Participation in Energy Imbalance Market of Avista Corporation.

Filed Date: 6/30/21.

Accession Number: 20210630-5329.

Comments Due: 5 p.m. ET 7/21/21.

Docket Numbers: ER21-857-002; ER21-856-002.

Applicants: Trent River Solar, LLC, PGR Lessee P, LLC.

Description: Notice of Non-Material Change in Status of Trent River Solar, LLC, et al.

Filed Date: 6/30/21.

Accession Number: 20210630-5377.

Comments Due: 5 p.m. ET 7/21/21.

Docket Numbers: ER21-1191-006.

Applicants: Southwestern Electric Power Company.

Description: Tariff Amendment: Amended and Restated Minden PSA to be effective 8/1/2018.

Filed Date: 7/9/21.

Accession Number: 20210709-5040.

Comments Due: 5 p.m. ET 7/30/21.

Docket Numbers: ER21-1790-001.

Applicants: California Independent System Operator Corporation.

Description: Compliance filing: 2021-07-09 Load, Exports and Wheeling Extension Waiver to be effective N/A.

Filed Date: 7/9/21.

Accession Number: 20210709-5058.

Comments Due: 5 p.m. ET 7/30/21.

Docket Numbers: ER21-1917-001.

Applicants: Assembly Solar III, LLC.

Description: Tariff Amendment: Service Agreement filing to be effective 7/14/2021.

Filed Date: 7/9/21.

Accession Number: 20210709-5126.

Comments Due: 5 p.m. ET 7/30/21.

Docket Numbers: ER21-1961-001.

Applicants: Big River Solar, LLC.

Description: Tariff Amendment: Amendment to Market-Based Rate Application to be effective 7/15/2021.

Filed Date: 7/8/21.

Accession Number: 20210708-5053.

Comments Due: 5 p.m. ET 7/29/21.

Docket Numbers: ER21-2382-000.

Applicants: Shell Energy North America (US), L.P.

Description: Compliance filing: Spot Market Sale Above Soft Cap to be effective N/A.

Filed Date: 7/8/21.

Accession Number: 20210708-5129.

Comments Due: 5 p.m. ET 7/29/21.

Docket Numbers: ER21-2383-000.

Applicants: kWantix Trading Fund I, LP.

Description: Tariff Cancellation: Notice of Cancellation to be effective 7/9/2021.

Filed Date: 7/8/21.

Accession Number: 20210708-5133.

Comments Due: 5 p.m. ET 7/29/21.

Docket Numbers: ER21-2384-000.

Applicants: PJM Interconnection, L.L.C.

Description: § 205(d) Rate Filing: Original ISA, SA No. 6103; Queue Nos. AC1-091/092/093/094 and AC2-184/185 to be effective 6/10/2021.

Filed Date: 7/9/21.

Accession Number: 20210709-5006.

Comments Due: 5 p.m. ET 7/30/21.

Docket Numbers: ER21-2385-000.

Applicants: AEP Texas Inc.

Description: § 205(d) Rate Filing: AEPTX-Louise Solar (Texana Solar) Interconnection Agreement to be effective 6/30/2021.

Filed Date: 7/9/21.

Accession Number: 20210709-5026.

Comments Due: 5 p.m. ET 7/30/21.

Docket Numbers: ER21-2386-000.

Applicants: PJM Interconnection, L.L.C.

Description: § 205(d) Rate Filing: Amendment to WMPA, Service Agreement No. 5855; Queue No. AF2-100 to be effective 11/10/2020.

Filed Date: 7/9/21.

Accession Number: 20210709-5029.

Comments Due: 5 p.m. ET 7/30/21.

Docket Numbers: ER21-2387-000.

Applicants: PJM Interconnection, L.L.C.

Description: § 205(d) Rate Filing: Original WMPA SA No. 6112; Queue No. AG1-317 to be effective 6/10/2021.

Filed Date: 7/9/21.

Accession Number: 20210709-5045.

Comments Due: 5 p.m. ET 7/30/21.

Docket Numbers: ER21-2388-000.

Applicants: Clines Corners Wind Farm LLC.

Description: § 205(d) Rate Filing: Certificate of Concurrence with Red Cloud Wind LLC (ER21-2362-000) to be effective 7/8/2021.

Filed Date: 7/9/21.

Accession Number: 20210709-5056.

Comments Due: 5 p.m. ET 7/30/21.

Docket Numbers: ER21-2389-000.

Applicants: Duran Mesa LLC.

Description: § 205(d) Rate Filing: Certificate of Concurrence with Red Cloud Wind LLC (ER21-2362-000) to be effective 7/8/2021.

Filed Date: 7/9/21.

Accession Number: 20210709-5060.

Comments Due: 5 p.m. ET 7/30/21.

Docket Numbers: ER21-2390-000.

Applicants: Tecolote Wind LLC.

Description: § 205(d) Rate Filing: Certificate of Concurrence with Red Cloud Wind LLC (ER21-2362-000) to be effective 7/8/2021.

Filed Date: 7/9/21.

Accession Number: 20210709-5065.

Comments Due: 5 p.m. ET 7/30/21.

Docket Numbers: ER21-2391-000.

Applicants: PJM Interconnection, L.L.C.

Description: § 205(d) Rate Filing: Amendment to ISA, SA# 5098 & CSA, SA# 5099; Queue No. AB1-173/AB1-173A/AB2-031 to be effective 5/21/2018.

Filed Date: 7/9/21.

Accession Number: 20210709-5074.

Comments Due: 5 p.m. ET 7/30/21.

Docket Numbers: ER21-2392-000.

Applicants: Power Authority of the State of New York, New York Independent System Operator, Inc.

Description: § 205(d) Rate Filing: 205: NYPA Cost Containment Mechanism for Segment A to be effective 9/15/2021.

Filed Date: 7/9/21.

Accession Number: 20210709-5082.

Comments Due: 5 p.m. ET 7/30/21.

Take notice that the Commission received the following qualifying facility filings:

Docket Numbers: QF21-480-000; QF21-481-000; QF21-482-000; QF21-483-000.

Applicants: Arcadia Solar, LLC, WGL Georgia Project Group, LLC.

Description: Refund Report of Arcadia Solar, LLC, et al.

Filed Date: 7/7/21.

Accession Number: 20210707-5134.

Comments Due: 5 p.m. ET 7/28/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 9, 2021.
Debbie-Anne A. Reese,
Deputy Secretary.

[FR Doc. 2021-15094 Filed 7-14-21; 8:45 am]

BILLING CODE 6717-01-P